DEPARTMENT OF TRANSPORTATION

Office of the Secretary

Aviation Proceedings, Agreements Filed During the Week Ending February 8, 2002

The following Agreements were filed with the Department of Transportation under the provisions of 49 U.S.C. Sections 412 and 414. Answers may be filed within 21 days after the filing of the application.

Docket Number: OST-2002-11479.

Date Filed: February 5, 2002.

Parties: Members of the International Air Transport Association.

Subject: PTC12 USA-EUR Fares 0067 dated 1 February 2002, Resolution 015h—USA Add-on Amounts between, USA and UK, Intended effective date: 1 April 2002.

Docket Number: OST-2002-11480.

Date Filed: February 5, 2002.

Parties: Members of the International Air Transport Association.

Subject: PTC3 0547 dated 1 February 2002, Mail Vote 199—Resolution 010b, TC3 Within South Asian Subcontinent Special Passenger, Amending Resolution from India to Bangladesh, Intended effective date: 20 February 2002.

Docket Number: OST-2002-11541.

Date Filed: February 8, 2002.

Parties: Members of the International Air Transport Association.

Subject: PTC12 MEX-EUR 0046 dated 8 February 2002, Mexico-Europe Expedited Resolution 002z, Intended effective date: 15 March 2002.

Docket Number: OST-2002-11542.

Date Filed: February 8, 2002.

Parties: Members of the International Air Transport Association.

Subject: PTC12 NMS-ME 0158 dated 8 February 2002, North Atlantic-Middle East Expedited Resolutions r1-r4, Intended effective date: 15 March 2002.

Docket Number: OST-2002-11543.

Date Filed: February 8, 2002.

Parties: Members of the International Air Transport Association.

Subject: PTC3 0548 dated 8 February 2002, Mail Vote 198-Resolution 010a r1-r9, TC3 Between Japan, Korea and South East Asia Special, Passenger Amending Resolution between Japan and China, (excluding Hong Kong SAR and Macau SAR), Intended effective date: 18 April 2002.

Dorothy Y. Beard,
Federal Register Liaison.

[FR Doc. 02-4636 Filed 2-26-02; 8:45 am]

BILLING CODE 4910-62-P